COMMODITY FUTURES TRADING COMMISSION

Sunshine Act Meetings

TIME AND DATE: 10:00 a.m., Thursday, September 27, 2018.

PLACE: CFTC Headquarters, Lobby-Level Hearing Room, Three Lafayette Centre, 1155 21st Street, NW, Washington, DC.

STATUS: Open.

MATTERS TO BE CONSIDERED: The Commodity Futures Trading Commission (“Commission” or “CFTC”) will hold this meeting to consider the following matters:

• Proposed Rule Amending Registration and Compliance Obligations for Commodity Pool Operators (CPOs) and Commodity Trading Advisors (CTAs);

• Fintech Cooperation Arrangement(s); and

• Paperwork Reduction Act delegation to the Secretary of the Commission.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Dated: September 20, 2018.
Christopher Kirkpatrick,
Secretary of the Commission.

[FR Doc. 2018-20897 Filed 9-21-18; 11:15 am]

BILLING CODE 6351-01-P